NATIONAL AERONAUTICS AND SPACE ADMINISTRATION

[Notice (06-053)]

Centennial Challenges 2006 Beam Power Challenge

AGENCY: National Aeronautics and Space Administration (NASA).

ACTION: Notice.

SUMMARY: This notice is issued in accordance with 42 U.S.C. 2451 (314) (d). The 2006 Beam Power Challenge is now scheduled and teams that wish to compete may now register. The NASA Centennial Challenges Program is a program of prize contests to stimulate innovation and competition in space exploration and ongoing NASA mission areas. The 2006 Beam Power Challenge is a prize contest designed to promote the development of new power distribution technologies.

The 2006 Beam Power Challenge is being administered for NASA by the Spaceward Foundation. Their Web site is: http://www.spaceward.org. The Centennial Challenges Web site is http://centennialchallenges.nasa.gov.

DATES: The 2006 Beam Power Challenge will be held October 20-21, 2006 as part of the X PRIZE Cup event in Las Cruces, NM.

ADDRESSES: The 2006 Beam Power Challenge will be held at the X PRIZE Cup at the Las Cruces International Airport, 8990 Zia Blvd., Las Cruces, NM 88007. Questions and comments regarding the NASA Centennial Challenges Program should be addressed to Mr. Ken Davidian, Suite 2M14, Centennial Challenges Program, Exploration Systems Mission Directorate, NASA, 20546-0001.

FOR FURTHER INFORMATION CONTACT: Requests for additional information regarding the NASA Centennial Challenges Program should be directed to Mr. Ken Davidian, Suite 2M14, Centennial Challenges Program, Exploration Systems Mission Directorate, NASA, 20546-0001, (202) 358-0748, kdavidian@nasa.gov. To register for and get additional information regarding the 2006 Beam Power Challenge, visit: http://www.elevator2010.org/site/competitionClimber2006.html.

SUPPLEMENTARY INFORMATION:

Summary

The 2006 Beam Power Challenge is designed to promote the development of new power distribution technologies. These technologies can be applied to many aspects of space exploration, including surface- or space-based point-to-point power transmission or delivery for robotic and/or human expeditions to planetary surfaces. This challenge may also support the development of far-term space infrastructure concepts such as space elevators and solar power satellites.

This challenge requires teams to design and build a climber (a machine that can go up and down a tether ribbon) while carrying a payload. Power will be beamed from a transmitter to a receiver on the climber.

I. Challenge Basis and Prize Amount

The 2006 Beam Power Challenge total purse is $200,000. Each climber must climb to a height of 50 meters traveling at a minimum speed of 1 meter per second. The team with the highest score (the product of average velocity and payload mass normalized by the climber mass) will win the competition.

II. Eligibility

The Centennial Challenges Program has established the following language in the CHALLENGE Team Agreements governing eligibility. CHALLENGE is the 2006 Beam Power Challenge.

TEAM is defined as an individual, organization or corporation, or a group of individuals, organizations or corporations that register to participate in CHALLENGE. TEAM is comprised of a TEAM LEADER and TEAM MEMBERS.

TEAM LEADER is defined as a single individual, organization, or corporation, which is the sole agent representing TEAM regarding its participation in CHALLENGE. TEAM LEADERS that are individuals must be U.S. citizens. TEAM LEADERS that are organizations or corporations must be incorporated in the U.S. and majority-owned and controlled by U.S. citizens. Corporate or other organizational TEAM LEADERS must appoint an individual who is an officer of the Corporation or organization to represent the TEAM LEADER.

TEAM MEMBERS is defined as the participants on the TEAM that are not the TEAM LEADER. If a TEAM consists of a single individual, then in this case the TEAM MEMBER is also the TEAM LEADER. Individuals and corporate entities that are other than U.S. citizens or entities may be TEAM MEMBERS, subject to written request to and approval by SPACEWARD.

All TEAM MEMBERS will apply to register for the CHALLENGE through TEAM LEADER and must receive written concurrence by SPACEWARD.

All TEAM MEMBERS must execute an “Adoption of AGREEMENT” committing to all terms of this AGREEMENT. By signing below, TEAM LEADER represents that all Team Members have executed the Adoption of Agreement and that no one else will become a member of the TEAM or participate in the CHALLENGE until such new TEAM MEMBER has signed this Agreement. SPACEWARD may disqualify any TEAM if it discovers that a person is acting as a TEAM MEMBER who has not signed this Agreement. TEAM LEADER will provide SPACEWARD with a copy of the “Adoption of Agreement” signed by each team member.

Any U.S. Government organization or organization principally or substantially funded by the Federal Government, including Federally Funded Research and Development Centers, Government-owned, contractor operated (GOCO) facilities, and University Affiliated Research Centers, are ineligible to be a TEAM LEADER or TEAM MEMBER.

U.S. Government employees may not participate in the CHALLENGE as TEAM LEADER or TEAM MEMBER.

TEAM MEMBERS may participate in CHALLENGE on more than one TEAM.

III. Rules

The rules for the 2006 Beam Power Challenge can be found at: http://www.elevator2010.org/site/documents/climber_rulebook_2006.current.pdf.

Dated: August 8, 2006.
Scott J. Horowitz,
Associate Administrator, Exploration Systems Mission Directorate.

[FR Doc. E6-13497 Filed 8-15-06; 8:45 am]

BILLING CODE 7510-13-P